DEPARTMENT OF COMMERCE

National Oceanic and Atmospheric Administration

[I.D. 091605B]

Pacific Fishery Management Council; Public Meeting

AGENCY: National Marine Fisheries Service (NMFS), National Oceanic and Atmospheric Administration (NOAA), Commerce.

ACTION: Notice of public meeting.

SUMMARY: The Pacific Fishery Management Council's (Council) Groundfish Management Team (GMT) will hold a working meeting, which is open to the public.

DATES: The GMT meeting will be held Tuesday, October 11, 2005, from 1 p.m. until business for the day is completed. The GMT meeting will reconvene Wednesday, October 12 through Friday, October 14, from 8:30 a.m. until business for the day is completed. The GMT meeting will be held at the National Oceanic and Atmospheric Administration (NOAA) Western Regional Center's Sand Point Facility, Northwest Region Office, Building 1, Northwest Region Conference Room, 7600 Sand Point Way NE, Seattle, WA 98115-0070, (206) 526-6150.

ADDRESSES: Council address: Pacific Fishery Management Council, 7700 NE Ambassador Place, Suite 200, Portland, Oregon 97220-1384.

FOR FURTHER INFORMATION CONTACT: Mr. John DeVore, Groundfish Management Coordinator; telephone: 503-820-2280.

SUPPLEMENTARY INFORMATION: The purpose of the GMT meeting is to discuss groundfish management measures in place for the fall and winter months and consider inseason adjustments to ongoing West Coast groundfish fisheries; review new groundfish stock assessments and rebuilding analyses for depleted groundfish species; develop a range of recommended 2007-2008 harvest specifications for groundfish stocks and stock complexes; develop a recommended range of preliminary management measures for 2007-2008 groundfish fisheries; discuss and recommend implementation strategies and draft amendatory language for Groundfish Fishery Management Plan (FMP) Amendment 18; discuss and recommend draft amendatory language for FMP Amendment 19 (specifying measures to protect West Coast groundfish essential fish habitat); discuss and recommend regulations for protecting West Coast groundfish essential fish habitat; discuss and consider recommendations for 2006 management measures for spiny dogfish and Pacific cod; discuss and consider recommendations for 2006 exempted fishing permit applications; discuss and consider recommendations for a final preferred alternative for expanding the groundfish vessel monitoring system; and address other assignments relating to groundfish management. No management actions will be decided by the GMT. The GMT's role will be development of recommendations for consideration by the Council at its November meeting in San Diego, California.

Although non-emergency issues not contained in the meeting agenda may come before the GMT for discussion, those issues may not be the subject of formal GMT action during this meeting. GMT action will be restricted to those issues specifically listed in this notice and any issues arising after publication of this notice that require emergency action under Section 305 ) of the Magnuson-Stevens Fishery Conservation and Management Act, provided the public has been notified of the GMT's intent to take final action to address the emergency.

Special Accommodations

This meeting is physically accessible to people with disabilities. Requests for sign language interpretation or other auxiliary aids should be directed to Ms. Carolyn Porter at 503-820-2280 at least five days prior to the meeting date.

Entry to the NOAA Western Regional Center's Sand Point Facility requires visitors to show a valid picture ID and register with security. A visitor's badge, which must be worn while at the NOAA Western Regional Center's Facility, will be issued to non-Federal employees participating in the meeting.

Dated: September 16, 2005.
Emily Menashes,
Acting Director, Office of Sustainable Fisheries, National Marine Fisheries Service.

[FR Doc. E5-5151 Filed 9-21-05; 8:45 am]

BILLING CODE 3510-22-S